DEPARTMENT OF THE INTERIOR

[FWS-R4-ES-2019-N161; FVHC98220410150-XXX-FF04H00000]

Deepwater Horizon Oil Spill Alabama Trustee Implementation Group Final Restoration Plan III and Environmental Assessment: Provide and Enhance Recreational Opportunities; and Birds and Finding of No Significant Impact

AGENCY: Department of the Interior.

ACTION: Notice of availability.

SUMMARY: In accordance with the Oil Pollution Act of 1990 (OPA), the National Environmental Policy Act of 1969 (NEPA), the Deepwater Horizon Oil Spill Final Programmatic Damage Assessment Restoration Plan and Final Programmatic Environmental Impact Statement, Record of Decision, and Consent Decree, the Federal and State natural resource trustee agencies for the Alabama Trustee Implementation Group (AL TIG) have prepared a final restoration plan and environmental assessment entitled Alabama Trustee Implementation Group Final Restoration Plan III/Environmental Assessment: Provide and Enhance Recreational Opportunities; and Birds (AL RP III/EA), and Finding of No Significant Impact (FONSI). In the AL RP III/EA, the AL TIG is selecting to implement five projects to address lost recreational use and two projects for the restoration of birds. Implementation of these projects will help restore natural resources and the services they provide that were injured in the Alabama Restoration Area as a result of the Deepwater Horizon oil spill. The purpose of this notice is to inform the public of the availability of the final AL RP III/EA and FONSI.

ADDRESSES: Obtaining Documents: You may download the AL RP III/EA and FONSI from either of the following websites:

• https://www.doi.gov/deepwaterhorizon/adminrecord.

• https://www.gulfspillrestoration.noaa.gov/restoration-areas/alabama.

Alternatively, you may request a CD of the AL RP III/EA and FONSI (see FOR FURTHER INFORMATION CONTACT).

FOR FURTHER INFORMATION CONTACT: Nanciann Regalado, via email at nanciann_regalado@fws.gov, via telephone at 678-296-6805, or via the Federal Relay Service at 800-877-8339.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the Deepwater Horizon oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the completion of restoration to baseline (the resource quality and conditions that would exist if the spill had not occurred).

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the Trustees reached and finalized a settlement of their natural resource damage claims with BP in a Consent Decree approved by the United States District Court for the Eastern District of Louisiana. Pursuant to that Consent Decree, restoration projects in the Alabama Restoration Area are now chosen and managed by the AL TIG. The AL TIG comprises the following Trustees: State of Alabama Department of Conservation and Natural Resources and Geological Survey of Alabama; DOI; NOAA; EPA; and USDA.

Background

In preparation for the draft AL RP III/EA planning process, on December 19, 2018, the AL TIG posted a notice on two websites: The NOAA Gulf Spill web portal at http://www.gulfspillrestoration.noaa.gov, and the Alabama Department of Conservation and Natural Resources Project Portal at http://www.alabamacoastalrestoration.org/. The notice requested public input on restoration project ideas in the Alabama Restoration Area, asking the public to focus their input on “Provide and Enhance Recreational Opportunities” and “Birds” restoration types. The AL TIG reviewed and considered these restoration project ideas and prepared a draft AL RP III/EA. Notice of availability of the draft AL RP III/EA was published in the Federal Register on September 3, 2019 (84 FR 46033). The AL TIG provided the public 30 days to review and comment on the draft AL RP III/EA. Comments submitted during that time were reviewed and addressed by the AL TIG before finalizing the AL RP III/EA. Details, including the AL TIG's responses to the comments, are provided in the final AL RP III/EA. Additional restoration planning for the Alabama Restoration Area will continue.

Overview of the Final AL RP III/EA

The final AL RP III/EA is being released in accordance with OPA NRDA regulations found in the Code of Federal Regulations (CFR) at 15 CFR part 990, NEPA and its implementing regulations found at 40 CFR parts 1500-1508, the Final PDARP/PEIS, and the Consent Decree. In the final AL RP III/EA and FONSI, the AL TIG selected projects to implement addressing two restoration types. Five were selected for funding under the “Provide and Enhance Recreational Opportunities” restoration type allocation proposing to use approximately $13,500,000 in DWH settlement funds. Two were selected for funding under the “Birds” restoration type allocation, using approximately $8,700,000 in DWH settlement funds. The following projects were selected for implementation (immediate or future):

Restoration Type—Provide and Enhance Recreational Opportunities

Perdido River Land Acquisition (Molpus Tract)

Bayfront Park Restoration and Improvement Phases IIa and IIb

Gulf State Park Pier Renovation

Perdido Beach Public Access Coastal Protection *

Bon Secour National Wildlife Refuge Recreation Enhancement—Mobile Street Boardwalk *

Restoration Type—Birds

Stewardship of Coastal Alabama Beach Nesting Bird Habitat

Dauphin Island West End Acquisition

Based on the NEPA analysis provided in the AL RP III/EA, the AL TIG Federal Trustees issued a FONSI in accordance with 40 CFR part 1508.13 and 15 CFR part 990.23. The FONSI is available in Appendix J of the AL RP III/EA.

* The Trustees are not proposing to exceed the allocation for “Provide and Enhance Recreational Opportunities” in this RP III/EA. Implementation of the selected alternatives, noted with an asterisk, is therefore pending fund availability. Additional funds could become available to the “Provide and Enhance Recreational Opportunities” restoration type for various reasons (e.g., project cancellation or modification, projects under budget), at which time the AL TIG could allocate those recreational use funds to those noted alternatives, consistent with this RP III/EA, through TIG resolution.

Administrative Record

The documents comprising the Administrative Record for the AL RP III/EA can be viewed electronically at https://www.doi.gov/deepwaterhorizon/adminrecord.

Authority

The authority for this action is the Oil Pollution Act of 1990 (33 U.S.C. 2701 et seq.), its implementing Natural Resource Damage Assessment regulations found at 15 CFR part 990, and the National Environmental Policy Act of 1969 (42 U.S.C. 4321 et seq.) and its implementing regulations found at 40 CFR parts 1500-1508.

Mary Josie Blanchard,
Director of Gulf of Mexico Restoration, Department of the Interior.

[FR Doc. 2019-27891 Filed 12-26-19; 8:45 am]

BILLING CODE 4333-15-P